DEPARTMENT OF COMMERCE

International Trade Administration

Washington University School of Medicine; Notice of Decision on Application for Duty-Free Entry of Scientific Instrument

This decision is made pursuant to section 6(c) of the Educational, Scientific, and Cultural Materials Importation Act of 1966 (Pub. Law 89-651, 80 Stat. 897; 15 CFR part 301). Related records can be viewed between 8:30 A.M. and 5:00 P.M. in Room 4211, U.S. Department of Commerce, 14th and Constitution Avenue, NW., Washington, DC.

Docket Number: 00-037. Applicant: Washington University School of Medicine, St. Louis, MO 63110. Instrument: Flash Lamp System with Accessories. Manufacturer: Rapp OptoElectronic, Germany. Intended Use: See notice at 65 FR 70549, November 24, 2000.

Comments: None received. Decision: Approved. No instrument of equivalent scientific value to the foreign instrument, for such purposes as it is intended to be used, is being manufactured in the United States. Reasons: The foreign instrument provides special filters for applications using caged Ca²⁺ compounds with an energy density of 400 mJ/cm² in the UV. The National Institutes of Health advises in its memorandum of December 5, 2000 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-456 Filed 1-5-01; 8:45 am]

BILLING CODE 3510-DS-P